DEPARTMENT OF ENERGY

Federal Energy Regulatory Commission

[Docket No. AD23-7-000]

PJM Capacity Market Forum; Notice of Request for Comments

On June 15, 2023, the Federal Energy Regulatory Commission (Commission) held a forum in the above captioned proceeding to discuss the PJM Interconnection, L.L.C. (PJM) capacity market. Any party wishing to submit comments regarding the topics discussed at the forum may do so on or before August 14, 2023.

Comments may be filed electronically via the internet.¹ Instructions are available on the Commission's website https://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2022).

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For more information about this Notice, please contact:

Katherine Scott (Technical Information), Office of Energy Market Regulation, (202) 502-6495, katherine.scott@ferc.gov

Ryan Bruno (Legal Information), Office of the General Counsel, (202) 502-8533, ryan.bruno@ferc.gov

Dated: June 30, 2023.
Kimberly D. Bose,
Secretary.

[FR Doc. 2023-14421 Filed 7-6-23; 8:45 am]

BILLING CODE 6717-01-P